DEPARTMENT OF AGRICULTURE

Forest Service

Notice of Proposed New Fee Sites; Federal Lands Recreation Enhancement Act, (Title VIII, Pub. L. 108-447)

AGENCY: Chattahoochee-Oconee National Forest, USDA Forest Service.

ACTION: Notice of proposed new fee sites.

SUMMARY: The Chattahoochee-Oconee National Forest is planning to charge fees at two shooting range sites. One of the sites, Trembling Bridge Shooting Range, is being reconstructed and amenities are being added to improve services and experiences. The other site, Cedar Creek Shooting Range, is being constructed. Fees are assessed based on the level of amenities and services provided, cost of operation and maintenance, market assessment, and public comment. The fees listed are only proposed and will be determined upon further analysis and public comment. Funds from fees would be used for the continued operation and maintenance of these recreation sites. Trembling Bridge and Cedar Creek Shooting Ranges will be available for target practice. Amenities proposed for these facilities would include a 100 yard shooting range, parking area for ten to twenty vehicles, pathways, security fencing, a toilet, shooting shed, and benches, all which would all be accessible. A financial analysis has been completed to determine the fee of $5 per person per day, for those over the age of 16 years. Youth, 16 and under, will be allowed to use the ranges for free and must be accompanied by an adult. Shooting ranges offer a unique experience and are a widely popular offering on National Forests. Fees would help to provide security, operations and maintenance funds.

The Chattahoochee-Oconee National Forest is also planning to offer a $25 per person per year Annual Special Recreation Permit which would allow unlimited use of shooting ranges on the Chattahoochee-Oconee National Forest for a period of one year.

DATES: If approved, Trembling Bridge and Cedar Creek Shooting Ranges will start charging fees upon their completion, scheduled in early 2010.

ADDRESSES: George Bain, Forest Supervisor, Chattahoochee-Oconee National Forest, 1755 Cleveland Highway, Gainesville, Georgia 30501.

FOR FURTHER INFORMATION CONTACT: Alison Koopman, Developed Recreation Program Manager, 770-297-3030. Information about proposed fee changes can also be found on the Chattahoochee-Oconee National Forest Web site: http://www.fs.fed.us/conf/.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation.

Date: April 13, 2009.
George Bain,
Forest Supervisor, Chattahoochee-Oconee National Forest.

[FR Doc. E9-9016 Filed 4-20-09; 8:45 am]

BILLING CODE 3410-11-M